DEPARTMENT OF TRANSPORTATION

Federal Transit Administration

[FTA Docket No. FTA 2021-0013]

Agency Information Collection Activity Under OMB Review

AGENCY: Federal Transit Administration, DOT.

ACTION: Notice of request for comments.

SUMMARY: In compliance with the Paperwork Reduction Act of 1995, this notice announces that the Information Collection Requirements (ICR) abstracted below have been forwarded to the Office of Management and Budget (OMB) for review and comment. The ICR describe the nature of the information collection and their expected burdens.

DATES: Comments must be submitted on or before October 25, 2021.

ADDRESSES: Written comments and recommendations for the proposed information collection should be sent within 30 days of publication of this notice to www.reginfo.gov/public/do/PRAMain. Find this particular information collection by selecting “Currently under 30-day Review—Open for Public Comments” or by using the search function.

Comments are Invited On: Whether the proposed collection of information is necessary for the proper performance of the functions of the Department, including whether the information will have practical utility; the accuracy of the Department's estimate of the burden of the proposed information collection; ways to enhance the quality, utility, and clarity of the information to be collected; and ways to minimize the burden of the collection of information on respondents, including the use of automated collection techniques or other forms of information technology. A comment to OMB is best assured of having its full effect if OMB receives it within 30 days of publication of this notice in the Federal Register.

FOR FURTHER INFORMATION CONTACT: Tia Swain, Office of Administration, Management Planning Division, 1200 New Jersey Avenue SE, Mail Stop TAD-10, Washington, DC 20590, (202) 366-0354 or tia.swain@dot.gov.

SUPPLEMENTARY INFORMATION: The Paperwork Reduction Act of 1995 (PRA), Public Law 104-13, Section 2, 109 Stat. 163 (1995) (codified as revised at 44 U.S.C. 3501-3520), and its implementing regulations, 5 CFR part 1320, require Federal agencies to issue two notices seeking public comment on information collection activities before OMB may approve paperwork packages. 44 U.S.C. 3506, 3507; 5 CFR 1320.5, 1320.8(d)(1), 1320.12. On June 24, 2021, FTA published a 60-day notice (86 FR 33473) in the Federal Register soliciting comments on the ICR for which the agency was seeking OMB approval. FTA received no comments after issuing this 60-day notice. Accordingly, DOT announces that these information collection activities have been re-evaluated and certified under 5 CFR 1320.5(a) and forwarded to OMB for review and approval pursuant to 5 CFR 1320.12(c).

Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44978, 44983, Aug. 29, 1995. OMB believes that the 30-day notice informs the regulated community to file relevant comments and affords the agency adequate time to digest public comments before it renders a decision. 60 FR 44983, Aug. 29, 1995. Therefore, respondents should submit their respective comments to OMB within 30 days of publication to best ensure having their full effect. 5 CFR 1320.12(c); see also 60 FR 44983, Aug. 29, 1995.

The summaries below describe the nature of the information collection requirements (ICR) and the expected burden. The requirements are being submitted for clearance by OMB as required by the PRA.

Title: Transit COVID-19 Response Program.

OMB Control Number: 2132-0581.

Type of Request: Extension without change of a currently approved collection.

Abstract: In accordance with the Paperwork Reduction Act (PRA) of 1995, the Federal Transit Administration (FTA) is requesting Office of Management and Budget (OMB) 3-year approval for this existing information collection previously authorized under emergency approval. FTA is collecting monthly data related to impacts from the coronavirus disease 2019 (COVID-19) on public transportation agencies, including transit workforce counts; transit service levels; counts of COVID-19 positives, fatalities, recoveries, and unvaccinated employees; whether or not a transit agency has implemented the U.S. Centers for Disease Control and Prevention (CDC) Order and Transportation Security Administration (TSA) Security Directive requiring workers and passengers to wear masks; and whether or not the agency has used FTA funds to support vaccine access services. FTA uses this data to inform FTA's COVID-19 response and recovery actions, including monitoring of safety measures and impacts, development of technical assistance and safety advisories, monitoring use of FTA grant funds to address COVID-19 considerations, and monitoring compliance with Federal requirements.

FTA began the Transit COVID-19 Response Program Information Collection in April 2021 under OMB emergency approval and is seeking renewal of this approval through OMB's standard PRA clearance process. On June 24, 2021, FTA issued a 60-day Federal Register Notice requesting the extension of the approved information collection. This subsequent 30-day Federal Register Notice for public comments follows OMB's PRA clearance process. There have been no substantive changes to the information collection application and associated data since the initial request. FTA is requesting information collection approval for up to three years. COVID-19 continues to pose significant challenges for the transit industry. Although some transit providers have suspended service and a greater number have reduced service throughout the COVID-19 public health emergency, transit agencies across the country continue to provide millions of trips to lifeline services, including transporting healthcare personnel and other essential workers on the front line of the Nation's COVID-19 response. Transit agencies also offer additional essential services to support communities during the public health emergency, such as meal delivery and Wi-Fi access in underserved areas, and offer a range of COVID-19 vaccine access services. Accordingly, the Cybersecurity and Infrastructure Security Agency designates transit workers as essential critical infrastructure workers.

Transit agencies and other stakeholders have expressed concerns about the risk of COVID-19 to the transit industry and, along with the FTA, have taken steps to address these concerns. To support the transit industry's COVID-19 response, FTA allocated $25 billion in emergency relief funding to the U.S. transit industry through the Coronavirus Aid, Relief and Economic Security (CARES) Act (Pub. L. 116-136) and another $14 billion through the Coronavirus Response and Relief Supplemental Appropriations Act of 2021 (CRRSAA) (Pub. L. 116-260). The American Rescue Plan Act of 2021 (ARP), enacted on March 11, 2021, includes an additional $30.5 billion in Federal funding to support the nation's public transportation systems as they continue to respond to the COVID-19 pandemic and support vaccination of the U.S. population. Funding through the ARP Act and CRRSAA, like the CARES Act, is at 100-percent Federal share with no local match required. In addition, for Fiscal Year 2020, FTA apportioned over $12.5 billion in funding authorized under the Fixing America's Surface Transportation Act (FAST Act) (Pub. L. 114-94) and the Further Consolidated Appropriations Act, 2020 (Pub. L. 116-94).

Numerous transit agencies have implemented mitigations to limit the transmission of SARS-CoV-2, the virus that causes COVID-19, among their workers and within their systems. Despite these efforts, frontline transit workers remain at high risk for work-related exposure to SARS-CoV-2 because their work-related duties must be performed on-site and involve being in close proximity (<6 feet) to the public or to coworkers. In addition, many transit workers fall within racial and socioeconomic demographics that are at increased risk of getting sick and dying from COVID-19.

On January 29, 2021, CDC issued an Order requiring the wearing of masks by persons using or working in certain transportation services, including on public transportation, to prevent spread of the virus that causes COVID-19. Pursuant to the CDC Order, which implements Presidential Executive Order 13998, transportation operators must require that all persons wear masks when boarding, disembarking, and for the duration of travel, with certain exemptions. Operators of transportation hubs, which include bus terminals and subway stations, must require all persons wear a mask when entering or on the premises of a transportation hub. Since June 10, 2021, CDC is not enforcing the wearing of masks by persons while outdoors on transportation vehicles or while outdoors in transportation hubs. TSA issued a Security Directive on February 1, 2021 that implements the CDC Order. On August 20, 2021, TSA extended the Security Directive through January 18, 2022 to curb the spread of COVID-19. This information collection allows FTA to assess compliance with the Federal mask mandates.

According to data from the CDC, 70 percent of adult Americans had received at least one vaccination shot by August 2, 2021. Continued concerns regarding vaccine access and hesitancy among transit workers and the U.S. public present challenges to increasing this percentage further. FTA's information collection captures the number of transit workers that have reported that they have been vaccinated. The communities served by transit agencies continue to rely on them to provide critical transportation services every day—including transportation to vaccination sites. This information collection allows FTA to monitor the number of vaccinated transit workers and captures information on transit agencies' efforts to use Federal resources, including ARP, CARES, and CRRSAA funds, to support vaccine access for their communities—both critical data points to support FTA response activity.

New, more transmissible variants of the virus have recently emerged, including the B.1.617.2 (Delta) variant. Between June 30, 2021 and July 31, 2021, after five months of decreasing trends in COVID-19 cases and hospitalizations, data show that cases and hospitalizations have increased substantially. In light of the Delta variant and increased spread and hospitalizations, CDC reversed its May recommendations that fully vaccinated individuals do not need to wear masks indoors and now recommends that all Americans in areas of surging COVID-19 transmission should wear masks while indoors, regardless of their vaccination status. FTA plays a critical role in providing risk-based guidance and support for the COVID-19 recovery efforts of the transit industry. Accordingly, FTA will continue to require that respondents provide the following information using a fillable electronic online application:

• Transit Worker Counts: Total number of transit operators, other frontline essential personnel, and other workers during the reporting period.

• COVID-19 Impacts on Transit Agency Service Levels: Yes or no responses to indicate if the agency suspended service, reduced service, or operated at normal levels during the reporting period.

• COVID-19 Impacts on Transit Workforce: Cumulative counts of transit worker COVID-19 positives, fatalities, recoveries, and unvaccinated employees during the reporting period, and yes or no responses on whether the agency is requiring workers to be vaccinated, whether the agency has implemented the CDC Order and TSA Security Directive requiring workers and passengers to wear masks, and whether or not the agency has used FTA funds to support vaccine access services and the types of vaccine access services the agency provides.

Respondents: FTA will require this information, pursuant to 49 U.S.C. 5334, from recipients and sub-recipients of FTA funds under the Urbanized Area Formula Funding program (49 U.S.C. 5307) or the Formula Grants for Rural Areas program (49 U.S.C. 5311) that operate transit systems or pass-through funds to sub-recipients that operate transit systems. Recipients of FTA funds under the Enhanced Mobility of Seniors and Individuals with Disabilities program (49 U.S.C. 5310) may be requested to provide this information on a voluntary basis in the future.

Estimated Average Total Annual Respondents: 2,390 respondents.

Estimated Average Total Responses: 28,680.

Estimated Annual Burden Hours: 10,356.

Estimated Annual Burden per Response: 10 minutes per Section 5307 or 5311 respondent, 400 minutes per Section 5311 State respondent, and 16 minutes per Section 5310 transit operator respondent.

Frequency: Monthly.

Nadine Pembleton,
Director Office of Management Planning.

[FR Doc. 2021-20559 Filed 9-22-21; 8:45 am]

BILLING CODE P